DEPARTMENT OF DEFENSE

Department of the Navy

Notice of Availability of Finding

AGENCY: Department of the Navy, DoD.

ACTION: Notice.

SUMMARY: Pursuant to Executive Order (EO) 12114, Environmental Effects Abroad of Major Federal Actions, the Department of the Navy gives notice that a Finding of No Significant Harm (FONSH) has been issued and is available for exercise “Valiant Shield 07.”

DATES: The effective date of availability is August 3, 2007.

ADDRESSES: Electronic copies of the FONSH are available for public viewing or downloading at http://www.navydocuments.com. Single copies of the FONSH may be obtained by written request from: Commander, Naval Facilities Engineering Command Pacific, 258 Makalapa Drive Suite 100, Pearl Harbor, HI, 96860-3134 (ATTN: Code EV 21KF).

FOR FURTHER INFORMATION CONTACT: Commander, U.S. Pacific Fleet, Public Affairs, Mr. Mark Matsunaga 808-471-3769 or visit http://www.navydocuments.com.

SUPPLEMENTARY INFORMATION: Valiant Shield 2007 (VS 07) is a major Navy training exercise proposed to occur in August 2007 in a large open ocean area, beyond any territorial seas, in the western Pacific Ocean. The purpose of this exercise is to demonstrate the Navy's ability to operate a large Naval force in coordination with other United States military services, supporting the Navy's requirement to maintain, train and equip combat-ready naval forces. Activities conducted during the exercise include anti-air warfare, anti-surface warfare including sinking exercise(s), and anti-submarine warfare, including use of active sonar.

The FONSH is based on analysis contained in an Overseas Environmental Assessment (OEA) evaluating environmental impacts associated with the proposed offshore Navy training. Environmental concerns addressed in the OEA include air quality, water resources, ocean physical environment, airborne noise, underwater sound, and biological resources, including fish, essential fish habitat, marine mammals and threatened and endangered species. The OEA includes an analysis of mid-frequency active sonar use, sinking exercises, and other Navy training activities that will occur over the exercise period. VS 07 incorporates the use of Surveillance Towed Array Sensor System Low Frequency Active (SURTASS LFA) sonar in accordance with current authorizations.

Endangered Species Act Section 7 consultation between the Navy and National Marine Fisheries Service (NMFS) resulted in a biological opinion from NMFS concluding that the proposed exercise is not likely to jeopardize the continued existence of any threatened or endangered species, nor to adversely modify or destroy any designated critical habitat.

This action includes mitigation measures that will be implemented to protect marine mammals, sea turtles and federally listed endangered/threatened species during the exercise. Based on information gathered during preparation of the OEA, consultation with NMFS, and evaluation of the nature, scope and intensity of the proposed action, the Navy finds that the conduct of Valiant Shield 2007 will not significantly harm the environment and, therefore, an Overseas Environmental Impact Statement is not required.

Dated: July 30, 2007.
M.C. Holley,
Office of the Judge Advocate General, U.S. Navy, Administrative Law Division, Alternate Federal Register Liaison Officer.

[FR Doc. E7-15128 Filed 8-2-07; 8:45 am]

BILLING CODE 3810-FF-P